DEPARTMENT OF COMMERCE

International Trade Administration

[C-533-844]

Certain Lined Paper Products From India: Final Results of the Expedited Sunset Review of the Countervailing Duty Order

AGENCY: Enforcement and Compliance, International Trade Administration, Department of Commerce.

SUMMARY: The U.S. Department of Commerce (Commerce) finds that revocation of the countervailing duty (CVD) order on certain lined paper products (CLPP) from India would be likely to lead to continuation or recurrence of countervailable subsidies at the levels indicated in the “Final Results of the Sunset Review” section of this notice.

DATES: Applicable June 5, 2023.

FOR FURTHER INFORMATION CONTACT: Katherine Sliney, AD/CVD Operations, Office III, Enforcement and Compliance, International Trade Administration, U.S. Department of Commerce, 1401 Constitution Avenue NW, Washington, DC 20230; telephone: (202) 482-2437.

SUPPLEMENTARY INFORMATION:

Background

On September 28, 2006, Commerce published a CVD order on CLPP from India.¹ On February 1, 2023, Commerce initiated the third sunset review of the Order, pursuant to section 751(c) of the Tariff Act of 1930, as amended (the Act).² On February 15, 2023, Commerce received a notice of intent to participate from the Association of American School Paper Suppliers (AASPS) ³ (the domestic interested party), within the deadline specified in 19 CFR 351.218(d)(1)(i).⁴ AASPS claims interested party status pursuant to section 771(9)(F) of the Act, as an association whose member companies are U.S. producers of the domestic like product.⁵ Additionally, ACCO Brands USA LLC, Norcom, Inc., and Top Flight, Inc. claimed interested party status pursuant to section 771(9)(C) of the Act, as manufacturers in the United States of the domestic like product.⁶

¹ See Notice of Countervailing Duty Orders: Certain Lined Paper Products from India and Indonesia, 71 FR 56949 (September 28, 2006) (Order).

² See Initiation of Five-Year (Sunset) Reviews, 88 FR 6700 (February 1, 2023).

³ The individual members of AASPS are ACCO Brands USA LLC, Norcom Inc., and Top Flight Inc.

⁴ See AASPS's Letter, “Notice of Intent to Participate in Sunset Review,” dated February 15, 2023.

⁵ Id. at 2.

⁶ Id.

On March 2, 2023, Commerce received an adequate substantive response from the domestic interested party within the 30-day deadline specified in 19 CFR 351.218(d)(3)(i).⁷ Commerce did not receive a substantive response from any government or respondent interested party to this proceeding. On March 23, 2023, Commerce notified the U.S. International Trade Commission that it did not receive an adequate substantive response from respondent interested parties.⁸ As a result, Commerce conducted an expedited (120-day) sunset review of the Order, pursuant to section 751(c)(3)(B) of the Act and 19 CFR 351.218(e)(1)(ii)(B)(2) and (C)(2).

⁷ See AASPS's Letter, “Substantive Response to Notice of Initiation,” dated March 2, 2023.

⁸ See Commerce's Letter, “Sunset Reviews Initiated on February 1, 2023,” dated March 23, 2023.

Scope of the Order

The merchandise covered by this Order is certain lined paper products from India. For a complete description of the scope of the Order, see the Issues and Decision Memorandum.⁹

⁹ See Memorandum, “Decision Memorandum for the Final Results of the Expedited Third Sunset Review of the Countervailing Duty Order on Certain Lined Paper Products from India,” dated concurrently with, and hereby adopted by, this notice (Issues and Decision Memorandum).

Analysis of Comments Received

All issues raised in this sunset review are addressed in the Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Review

Pursuant to sections 751(c) and 752(b) of the Act, we determine that revocation of the Order would be likely to lead to continuation or recurrence of a countervailable subsidies at the following net countervailable subsidy rates:

Producers/exporters | Subsidy rate (percent ad valorem)
Aero Exports | 165.95
Navneet Education Limited | 169.36
All Others | 168.49

Administrative Protective Order

This notice serves as the only reminder to parties subject to an administrative protective order (APO) of their responsibility concerning the disposition of proprietary information disclosed under APO in accordance with 19 CFR 351.305, which continues to govern business proprietary information in this segment of the proceeding. Timely notification of the return or destruction of APO materials or conversion to judicial protective order is hereby requested. Failure to comply with the regulations and the terms of an APO is a sanctionable violation.

Notification to Interested Parties

Commerce is issuing and publishing these final results in accordance with sections 751(c), 752(b), and 777(i)(1) of the Act and 19 CFR 351.218(e)(1)(ii)(C)(2).

Dated: May 26, 2023.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Likely To Prevail

3. Nature of the Subsidies

VII. Final Results of Sunset Review

VIII. Recommendation

[FR Doc. 2023-11839 Filed 6-2-23; 8:45 am]

BILLING CODE 3510-DS-P